DEPARTMENT OF COMMERCE

International Trade Administration

United States Travel and Tourism Advisory Board Meeting

AGENCY: International Trade Administration, Department of Commerce.

ACTION: Notice of an open meeting.

SUMMARY: The United States Travel and Tourism Advisory Board (“Board”) will hold a meeting to discuss topics related to the travel and tourism industry. The meeting will include discussion of the enhanced mandate of the Board, the international advertising and promotion campaign which seeks to encourage individuals to travel to the United States for the express purpose of engaging in tourism, and future issues and initiatives the Board may pursue. The meeting will be open to the public. Time will be permitted for public comment, which is limited to three minutes per speaker. To sign up for public comment, please contact J. Marc Chittum, U.S. Travel and Tourism Advisory Board, Room 4043, Washington, DC 20230 (Phone: 202-482-1124), Marc.Chittum@mail.doc.gov, no later than close of business, Friday, November 25, 2005.

The Board is mandated by Public Law 108-7, Section 210, was initially chartered in 2003, and was re-chartered on September 21, 2005, for a two-year period to end September 20, 2007.

DATE: December 1, 2005.

Time: To be determined.

ADDRESSES: Exact location to be determined, New Orleans, LA. This program will be physically accessible to people with disabilities. Requests for sign language interpretation or other auxiliary aids should be submitted no later than November 25, 2005, to J. Marc Chittum, U.S. Travel and Tourism Advisory Board, Room 4043, 1401 Constitution Avenue, NW., Washington, DC 20230, telephone 202-482-1124, Marc.Chittum@mail.doc.gov. Seating is limited and will be on a first come, first served basis.

FOR FURTHER INFORMATION CONTACT: J. Marc Chittum, U.S. Travel and Tourism Advisory Board, Room 4043, 1401 Constitution Avenue, NW., Washington, DC 20230, telephone 202-482-1124, Marc.Chittum@mail.doc.gov.

Dated: November 9, 2005.
J. Marc Chittum,
Designated Federal Officer, U.S. Travel and Tourism Board.

[FR Doc. 05-22617 Filed 11-9-05; 1:25 pm]

BILLING CODE 3510-DR-P